DEPARTMENT OF THE INTERIOR

Bureau of Land Management

[LLIDT03000.L14300000.EU0000; IDI-35323]

Notice of Realty Action: Direct Sale of Public Land in Blaine County, ID

AGENCY: Bureau of Land Management, Interior.

ACTION: Notice of realty action.

SUMMARY: The Bureau of Land Management (BLM) proposes to sell a parcel of public land totaling 17 acres in Blaine County, Idaho, to the Animal Shelter of Wood River Valley (Animal Shelter) for the appraised fair market value of $18,700.

DATES: Comments regarding the proposed sale must be received by the BLM January 6, 2011.

ADDRESSES: Written comments concerning the proposed sale should be sent to Ruth A. Miller, BLM Shoshone Field Manager, 400 West F Street, Shoshone, Idaho 83352.

FOR FURTHER INFORMATION CONTACT: Tara Hagen, Realty Specialist, BLM Shoshone Field Office, 400 West F Street, Shoshone, Idaho 83352 or (208) 732-7205.

SUPPLEMENTARY INFORMATION: The following described public land is being proposed for direct sale to the Animal Shelter in accordance with Sections 203 and 209 of the Federal Land Policy and Management Act of 1976, as amended, (43 U.S.C. 1713 and 1719), at no less than the appraised fair market value:

Boise Meridian

T. 2 N., R. 18 E.,

Sec. 17, lots 5, 6, and 7.

The area described contains 17 acres in Blaine County.

The appraised fair market value is $18,700. The public land is identified as suitable for disposal in the 1982 BLM Sun Valley Management Framework Plan, as amended, and is not needed for any other Federal purposes.

The Animal Shelter is a non-profit corporation that provides public benefits to Blaine County (County) residents in the form of an adoption center, an impound facility for the County and local cities, administration of the county dog licensing program, and an informational and educational center. The Animal Shelter owns approximately 5 acres of private land abutting the east boundary of the proposed sale parcel. The Animal Shelter was issued a right-of-way for a road and a fence that cross the 17-acre subject parcel in August 1986 for a period of 30 years. Within the last 20 years or so, the Animal Shelter has inadvertently encroached upon a portion of the 17-acre subject parcel with infrastructure and associated uses.

The disposal of the 17 acres to the Animal Shelter would allow the BLM to support the local non-profit's and local government's interest in acquiring public lands; to extend community services; to dispose of an isolated parcel of public land; and would formally resolve an inadvertent trespass by the Animal Shelter.

Regulations contained in 43 CFR 2711.3-3 permit direct sales when a competitive sale is inappropriate and when the public interest would best be served by a direct sale, including the need to resolve inadvertent unauthorized use or occupancy of the lands, or when a tract is identified for transfer to State or local government or non-profit organizations. In accordance with 43 CFR part 2710, the BLM authorized officer finds that the public interest would best be served by authorizing the direct sale to the Animal Shelter, which would allow the identified lands to be consolidated with their adjacent private property to be used for purposes of an animal shelter and would allow the existing infrastructure and improvements on the 17-acre subject parcel to remain.

The subject parcel contains no known mineral values; therefore, the BLM proposes that the conveyance of the Federal mineral interests occur simultaneously with the sale of the land. The Animal Shelter will be required to pay a $50 nonrefundable filing fee for the conveyance of the mineral interests.

On January 16, 2009, the above described land was segregated from appropriation under the public land laws, including the mining laws. The segregation terminates (1) Upon issuance of a patent, (2) publication in the Federal Register of a termination of the segregation, or (3) 2 years from the date of segregation, whichever occurs first.

The land will not be sold before January 21, 2011. Any patent issued will contain the following terms, conditions, and reservations:

1. A reservation to the United States for ditches and canals constructed by the authority of the United States under the Act of August 30, 1890 (43 U.S.C. 945);

2. A condition that the conveyance be subject to all valid existing rights of record;

3. A notice and indemnification statement under the Comprehensive Environmental Response, Compensation and Liability Act (42 U.S.C. 9620(W)), indemnifying and holding the United States harmless from any release of hazardous materials that may have occurred;

4. An appropriate indemnification clause protecting the United States from claims arising out of the lessee's/patentee's use, occupancy or operations on the leased/patented lands; and

5. Additional terms and conditions that the authorized officer deems appropriate. Detailed information concerning the proposed land sale including the appraisal, planning and environmental documents, and a mineral report are available for review at the BLM Shoshone Field Office at the location identified in the ADDRESSES section above. Normal business hours are 7:45 a.m. to 4:30 p.m., Monday through Friday, except for Federal holidays.

Public Comments: Public comments regarding the proposed sale may be submitted in writing to the BLM Shoshone Field Manager (see ADDRESSES section) on or before January 6, 2011. Comments received in electronic form, such as e-mail or facsimile, will not be considered. Any adverse comments regarding the proposed sale will be reviewed by the BLM Idaho State Director or other authorized official of the Department of the Interior, who may sustain, vacate, or modify this realty action in whole or in part. In the absence of timely filed objections, this realty action will become the final determination of the Department of the Interior.

Before including your address, phone number, e-mail address, or other personal identifying information in your comment; you should be aware that your entire comment—including your personal identifying information—may be made publicly available at any time. While you can ask us in your comment to withhold your personal identifying information from public review, we cannot guarantee that we will be able to do so.

Authority: 43 U.S.C. 1713 and1719; 43 CFR 2711.1-2(a) and (c) and 2711.3-3.

Ruth A. Miller,
Shoshone Field Manager.

[FR Doc. 2010-29372 Filed 11-19-10; 8:45 am]

BILLING CODE 4310-GG-P